DEPARTMENT OF LABOR

Employment and Training Administration

[TA-W-39,035 and NAFTA-04767]

Twist Drill Co., Sandvik Division, Crystal Lake, Illinois, Dismissal of Application for Reconsideration

Pursuant to 29 CFR 90.18(C) an application for administrative reconsideration was filed with the Director of the Division of Trade Adjustment Assistance for workers at Twist Drill Co., Sandvik Division, Crystal Lake, Illinois. The application contained no new substantial information which would bear importantly on the Department's determination. Therefore, dismissal of the application was issued.

TA-W-39,035 and NAFTA-04767; Twist Drill Co., Sandvik Division, Crystal Lake, Illinois (October 26, 2001)

Signed at Washington, DC, this 5th day of November, 2001.
Edward A. Tomchick,
Director, Division of Trade Adjustment Assistance.

[FR Doc. 01-28176 Filed 11-8-01; 8:45 am]

BILLING CODE 4510-30-M